DEPARTMENT OF ENERGY

Federal Energy Regulatory Commission

[Docket No. RP03-540-000]

Transcontinental Gas Pipe Line Corporation; Notice of Tariff Filing

July 8, 2003.

Take notice that on July 1, 2003, Transcontinental Gas Pipe Line Corporation (Transco), tendered for filing as part of its FERC Gas Tariff, Third Revised Volume No. 1, Fifth Revised Sheet No. 360, to be effective June 1, 2003.

Transco states that the purpose of this filing is to modify the determination of the “Reference Spot Price Zone 6” as set forth in Section 37.1(a)(i) of the General Terms and Conditions of Transco's tariff. Specifically, Transco proposes to utilize the spot price reported by Natural Gas Week for Dominion South Point for any week in which there is no reported price for Dominion North Point.

Any person desiring to be heard or to protest said filing should file a motion to intervene or a protest with the Federal Energy Regulatory Commission, 888 First Street, NE., Washington, DC 20426, in accordance with Sections 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: July 14, 2003.

Magalie R. Salas,
Secretary.

[FR Doc. 03-17686 Filed 7-11-03; 8:45 am]

BILLING CODE 6717-01-P